DEPARTMENT OF ENERGY

Federal Energy Regulatory Commission

Combined Notice of Filings #2

Take notice that the Commission received the following electric rate filings:

Docket Numbers: ER14-649-005.

Applicants: Midcontinent Independent System Operator, Inc., Entergy Services, Inc.

Description: Report Filing: 2017-01-19_Entergy Refund Report pursuant to 9/28/2016 Order on Settlement to be effective N/A.

Filed Date: 1/19/17.

Accession Number: 20170119-5053.

Comments Due: 5 p.m. ET 2/9/17.

Docket Numbers: ER17-559-001.

Applicants: Mid-Atlantic Interstate Transmission, LLC, PJM Interconnection, L.L.C.

Description: Tariff Amendment: Amendment to MAIT Agency Agreement No. 4593 among MetEd, Penelec and MAIT to be effective 12/31/9998.

Filed Date: 1/19/17.

Accession Number: 20170119-5097.

Comments Due: 5 p.m. ET 2/9/17.

Docket Numbers: ER17-818-000.

Applicants: PJM Interconnection, L.L.C.

Description: Tariff Cancellation: Notice of Cancellation of Original Service Agreement No. 3386, Queue No. W2-022 to be effective 1/16/2017.

Filed Date: 1/19/17.

Accession Number: 20170119-5095.

Comments Due: 5 p.m. ET 2/9/17.

Docket Numbers: ER17-819-000.

Applicants: Arizona Public Service Company.

Description: § 205(d) Rate Filing: Rate Schedule No. 33—WAPA Triangle Agreement, Exhibit A Revision No. 51 to be effective 3/22/2017.

Filed Date: 1/19/17.

Accession Number: 20170119-5109.

Comments Due: 5 p.m. ET 2/9/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 19, 2017.
Nathaniel J. Davis, Sr.,
Deputy Secretary.

[FR Doc. 2017-01781 Filed 1-25-17; 8:45 am]

BILLING CODE 6717-01-P